DEPARTMENT OF TRANSPORTATION

Coast Guard

[USCG-2002-13057]

Carriage of Navigation Equipment for Ships on International Voyages

AGENCY: Coast Guard, DOT.

ACTION: Notice of policy.

SUMMARY: The Coast Guard is announcing its policy for resolving conflicts between its own regulations on navigation equipment on ships and the recent amendments to the International Convention for the Safety of Life at Sea, 1974, (SOLAS). The amendments to SOLAS entered into force on July 1, 2002. Until the Coast Guard can align its regulations with these amendments, this policy should benefit ship owners and operators by relieving them of the need to meet existing Coast Guard regulations that are incompatible with or duplicitous of the new SOLAS requirements.

DATES: This policy is effective August 15, 2002.

ADDRESSES: Documents mentioned in this notice are part of docket USCG-2002-13057 and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: If you have questions on this notice, contact LT Alan Blume, Office of Vessel Traffic Management, U.S. Coast Guard Headquarters, telephone 202-267-0550; e-mail ablume@comdt.uscg.mil. If you have questions on viewing the docket, call Dorothy Beard, Chief, Dockets, Department of Transportation, telephone 202-366-5149.

SUPPLEMENTARY INFORMATION:

Background

In December 2000, the International Maritime Organization amended chapter V of the International Convention for the Safety of Life at Sea, 1974, (SOLAS) at the 73rd Session of the Maritime Safety Committee. The amendments were accepted by the Contracting Governments to SOLAS on January 1, 2002, and entered into force on July 1, 2002. These amendments, in part, added requirements for the carriage of voyage data recorders (VDR) and automatic identification systems (AIS), changed the existing tonnage thresholds used to establish carriage requirements for some navigation equipment, and allowed an electronic chart display and information systems (ECDIS) to be accepted as meeting the chart carriage requirements of chapter V. Because of these amendments, the Coast Guard will need to align its regulations in titles 33 and 46 of the Code of Federal Regulations, especially those in 33 CFR part 164, with these amendments. Until this alignment occurs, problems may result due to the inconsistencies between chapter V and Coast Guard regulations. For example, if a ship owner elects to install ECDIS, the ship may still be required under 33 CFR 164.33 to carry paper nautical charts.

Policy Statement

Until the Coast Guard aligns its regulations with the amendments to SOLAS chapter V, the following policy applies:

For ships to which this policy applies, when an amendment to chapter V and a provision in Coast Guard regulations address the same navigational safety concern and when applying both would result in an unnecessary duplication, the Coast Guard will accept the provision under chapter V as meeting the corresponding Coast Guard regulation. In other words, if a ship has an approved ECDIS installed according to chapter V, the ECDIS will be considered by the Coast Guard as meeting its nautical chart regulation in 33 CFR 164.33(a)(1), since the ECDIS meets the same navigational safety concerns as do paper nautical charts. This policy benefits the ship owner and operator by relieving them of the need to unnecessarily duplicate equipment.

Under SOLAS, chapter I, regulation 12, the Coast Guard will not issue SOLAS certificates to U.S.-flag ships that are not in full compliance with the applicable requirements of the new SOLAS, chapter V. The Coast Guard will continue to exercise port state control authority under SOLAS, chapter I, regulation 19, for foreign-flag ships that are not in compliance with the applicable requirements of SOLAS, chapter V.

What Ships Are Affected?

This policy applies to the following ships, which are subject to the amendments to chapter V:

1. U.S.-flag ships of 150 or more gross tons that engage on international voyages.

2. U.S.-flag ships certificated solely for service on the Great Lakes and the St. Lawrence River as far east as a straight line drawn from Cap de Rosiers to West Point, Anticosti Island, and, on the north side of Anticosti Island, the 63rd Meridian.

3. Foreign-flag ships to which SOLAS, chapter V, applies that are operating on the navigable waters of the United States.

Note that U.S.-flag ships without mechanical means of propulsion are exempt from certain requirements of SOLAS under SOLAS, chapter V, regulation 3.1.

This policy is not applicable to U.S.-flag ships engaged only on domestic voyages. These ships must continue to comply with the existing navigation equipment requirements in titles 33 and 46 CFR until they are amended.

How Long Will This Policy Remain in Effect?

This policy will remain in effect until titles 33 and 46 CFR are aligned with SOLAS, chapter V, or until August 16, 2004, whichever is earlier. The Coast Guard will publish a second notice to extend this policy if the necessary regulations are not in place within two years.

Dated: August 9, 2002.
Joseph J. Angelo,
Acting Assistant Commandant Marine Safety, Security and Environmental Protection.

[FR Doc. 02-20753 Filed 8-14-02; 8:45 am]

BILLING CODE 4910-15-P